DEPARTMENT OF HOMELAND SECURITY

Coast Guard

33 CFR Part 110

[CGD05-03-036]

RIN 1625-AA01

Baltimore Harbor Anchorage Project

AGENCY: Coast Guard, DHS.

ACTION: Supplemental notice of proposed rulemaking.

SUMMARY: The Coast Guard proposes to amend the geographic coordinates and modify the regulated use of the anchorages in Baltimore Harbor, MD. The Army Corps of Engineers and the Coast Guard discussed changes to the coordinates of Anchorage 2 after the comment period for the Baltimore Harbor Anchorage Project notice of proposed rulemaking (NPRM) had closed. The discussions resulted in two changes not yet commented on by the public. This supplemental notice of proposed rulemaking solicits comments for those two additional changes plus all original changes included in the NPRM. An explanation of the two additional proposed changes can be found in the “Discussion of Rule” section of this document.

DATES: Comments and related material must reach the Coast Guard on or before February 13, 2004.

ADDRESSES: Comments and material received from the public, as well as documents indicated in this preamble as being available in the docket, are part of docket CGD05-03-036 and are available for inspection or copying at Commander, Fifth Coast Guard District (oan), 431 Crawford Street, Portsmouth, VA 23704-5004 between 9 a.m. and 3 p.m., Monday through Friday, except Federal holidays.

FOR FURTHER INFORMATION CONTACT: Lieutenant Junior Grade Timothy Martin, Fifth Coast Guard District Aids to Navigation and Waterways Management Branch, (757) 398-6285, e-mail: trmartin@lantd5.uscg.mil.

SUPPLEMENTARY INFORMATION:

Request for Comments

The Coast Guard encourages you to participate in this rulemaking by submitting comments and related material. If you do so, please include your name and address, identify the docket number for this rulemaking (CGD 5-03-036), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

The Coast Guard does not now plan to hold a public meeting. But you may submit a request for a meeting by writing to the Aids to Navigation and Waterways Management Branch at the address under ADDRESSES explaining why one would be beneficial. If we determine that one would aid this rulemaking, we will hold one at a time and place announced by a later notice in the Federal Register.

Regulatory History

On July 2, 2003, the Coast Guard published an NPRM in the Federal Register titled “Baltimore Harbor Anchorage Project” (68 FR 39503) explaining changes requested as a result of the U. S. Army Corps of Engineer's Baltimore Harbor Anchorage Dredging Project. This supplemental notice of proposed rulemaking (SNPRM) provides further opportunity for public comment on the NPRM and the two changes incorporated after the original publication of the NPRM and close of comment period.

Background and Purpose

Following the close of the NPRM comment period two minor changes were proposed to Anchorage 2 including a northeast extension to the anchorage that more closely aligns it with the limits of the Federal Navigation Project and the addition of a cutoff angle. The cutoff angle rounds off the northwest corner of the anchorage to remove the need for vessels to make a sharp turn when making their approach to Seagirt Marine Terminal from Fort McHenry Channel or vice versa. Also, removal of the anchorage's northwest corner will eliminate the possibility of transiting vessels entering the anchorage boundary when making the same turn.

Discussion of Rule

To simplify the charting and representation of the Baltimore Harbor anchorage areas, Anchorage No. 2 was further extended toward the Seagirt Marine Terminal to the Northeast to make Anchorage No. 2 congruent with the toe of the Federal Navigation Project. A cutoff angle was provided on the Northwest side of Anchorage No. 2 to provide more maneuvering room for vessels as they approach from the Fort McHenry Channel. This supplemental notice of proposed rulemaking solicits comments on the changes made to Anchorage 2. The U.S. Army Corps of Engineers, Maryland state officials and the Maryland Pilots had no adverse comments to these proposed changes to Anchorage 2.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under paragraph 10e of the regulatory policies and procedures of DHS is unnecessary. The Coast Guard does not expect that these proposed new regulations will adversely impact maritime commerce.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule may affect the following entities, some of which might be small entities: the owners or operators of vessels used for chartering, taxi, ferry services, or any other marine traffic that transit this area of Fort McHenry Channel in Baltimore Harbor. Changes to Anchorage No. 3 and Anchorage No. 4 may change the vessel routing through this area of the harbor. Deepening the anchorages and changing the coordinates for the anchorages would not have a significant economic impact on a substantial number of small entities for the following reasons. Vessel traffic could pass safely around the new anchorage areas. The new coordinates for the anchorages would be a change in dimension, the size of which would remain proportional to its current size, and their location would not interfere with commercial traffic.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact LTjg Timothy Martin at the address listed (see ADDRESSES).

Collection of Information

This rule would call for no new collection of information under the Paperwork Reduction Act of 1995 (44 U.S.C. 3501-3520).

Federalism

A rule has implications for Federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. This proposed rule, however, will not result in such expenditures.

Taking of Private Property

This proposed rule will not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal government and Indian tribes, or on the distribution of power and responsibilities between the Federal government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this proposed rule under Commandant Instruction M16475.1D, which guides the Coast Guard in complying with the National Environmental Policy Act of 1969 (NEPA) (42 U.S.C. 4321-4370f), and have concluded that there are no factors in this case that would limit the use of a categorical exclusion under section 2.B.2. of the Instruction. Therefore, this rule is categorically excluded, under figure 2-1, paragraph (34)(f), of the Instruction, from further environmental documentation. This proposed rule would change the size of Anchorage No. 2, Anchorage No. 3 and Anchorage No. 4 and modifies the regulated uses of these anchorages.

A final “Environmental Analysis Check List” and a final “Categorical Exclusion Determination” are available in the docket where indicated under ADDRESSES.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2030, 2035 and 2071; 33 CFR 1.05-1(g); Department of Homeland Security Delegation No. 0170.1.

2. In § 110.158 revise paragraphs (a) and (b) and add paragraphs (c), (d), and (e) to read as follows:

§ 110.158 Baltimore Harbor, MD.

(a) Anchorage grounds—(1) Anchorage No. 1, general anchorage. The waters bounded by a line connecting the following points:

Latitude | Longitude
39°15′13.0″ N | 76°34′08.5″ W
39°15′10.5″ N | 76°34′12.5″ W
39°14′52.5″ N | 76°33′54.0″ W
39°14′48.0″ N | 76°33′42.0″ W
Datum: NAD 83.

(2) Anchorage No. 2, general anchorage. The waters bounded by a line connecting the following points:

Latitude | Longitude
39°14′46.2″ N | 76°33′25.8″ W
39°14′56.1″ N | 76°33′37.1″ W
39°15′08.5″ N | 76°33′37.7″ W
39°15′19.2″ N | 76°33′24.5″ W
39°15′19.3″ N | 76°33′14.4″ W
39°15′14.8″ N | 76°32′59.6″ W
39°15′06.8″ N | 76°32′45.5″ W
39°14′41.1″ N | 76°32′27.2″ W
39°14′30.9″ N | 76°32′33.5″ W
39°14′46.3″ N | 76°32′49.7″ W
39°14′43.7″ N | 76°32′53.6″ W
39°14′57.5″ N | 76°33′08.1″ W
Datum: NAD 83.

(3) Anchorage No. 3, Upper, general anchorage. The waters bounded by a line connecting the following points:

Latitude | Longitude
39°14′32.5″ N | 76°33′11.3″ W
39°14′46.2″ N | 76°33′25.8″ W
39°14′57.5″ N | 76°33′08.1″ W
39°14′43.7″ N | 76°32′53.6″ W
Datum: NAD 83.

(4) Anchorage No. 3, Lower, general anchorage. The waters bounded by a line connecting the following points:

Latitude | Longitude
39°14′32.5″ N | 76°33′11.3″ W
39°14′46.3″ N | 76°32′49.7″ W
39°14′30.9″ N | 76°32′33.5″ W
39°14′24.4″ N | 76°32′39.9″ W
39°14′15.6″ N | 76°32′53.6″ W
Datum: NAD 83.

(5) Anchorage No. 4, general anchorage. The waters bounded by a line connecting the following points:

Latitude | Longitude
39°13′52.9″ N | 76°32′29.6″ W
39°14′05.9″ N | 76°32′43.3″ W
39°14′07.3″ N | 76°32′43.1″ W
39°14′17.9″ N | 76°32′26.4″ W
39°14′05.3″ N | 76°32′13.1″ W
39°14′00.5″ N | 76°32′17.8″ W
Datum: NAD 83.

(6) Anchorage No. 5, general anchorage. The waters bounded by a line connecting the following points:

Latitude | Longitude
39°14′07.0″ N | 76°32′58.5″ W
39°13′34.0″ N | 76°32′24.0″ W
39°13′22.0″ N | 76°32′29.0″ W
39°13′21.0″ N | 76°33′12.0″ W
Datum: NAD 83.

(7) Anchorage No. 6, general anchorage. The waters bounded by a line connecting the following points:

Latitude | Longitude
39°13′42.5″ N | 76°32′20.2″ W
39°13′20.0″ N | 76°31′56.0″ W
39°13′34.0″ N | 76°31′33.5″ W
39°14′02.0″ N | 76°32′02.9″ W
39°13′50.5″ N | 76°32′20.0″ W
Datum: NAD 83.

(8) Dead ship anchorage. The waters bounded by a line connecting the following points:

Latitude | Longitude
39°13′00.4″ N | 76°34′10.4″ W
39°13′13.4″ N | 76°34′10.8″ W
39°13′13.9″ N | 76°34′05.7″ W
39°13′14.8″ N | 76°33′29.8″ W
39°13′00.4″ N | 76°33′29.9″ W
Datum: NAD 83.

(b) Definitions. As used in this section:

Class 1 (explosive) materials means Division 1.1, 1.2, 1.3, and 1.4 explosives, as defined in 49 CFR 173.50.

Dangerous cargo means “certain dangerous cargo” as defined in § 160.203 of this title.

U.S. naval vessel means any vessel owned, operated, chartered, or leased by the U.S. Navy; any pre-commissioned vessel under construction for the U.S. Navy, once launched into the water; and any vessel under the operational control of the U.S. Navy or a Combatant Command.

(c) General regulations. (1) Except as otherwise provided, this section applies to vessels over 20 meters long and vessels carrying or handling dangerous cargo or Class 1 (explosive) materials while anchored in an anchorage ground described in this section.

(2) Except in cases where unforeseen circumstances create conditions of imminent peril, or with the permission of the Captain of the Port, no vessel shall be anchored in Baltimore Harbor and Patapsco River outside of the anchorage areas established in this section for more than 24 hours. No vessel shall anchor within a tunnel, cable or pipeline area shown on a government chart. No vessel shall be moored, anchored, or tied up to any pier, wharf, or other vessel in such manner as to extend into established channel limits. No vessel shall be positioned so as to obstruct or endanger the passage of any other vessel.

(3) Except in an emergency, a vessel that is likely to sink or otherwise become a menace or obstruction to navigation, or to the anchoring of other vessels, may not occupy an anchorage, unless the vessel obtains a permit from the Captain of the Port.

(4) The Captain of the Port may grant a revocable permit to a vessel for a habitual use of an anchorage. Only the vessel that holds the revocable permit may use the anchorage during the period that the permit is in effect.

(5) Upon notification by the Captain of the Port to shift its position, a vessel at anchor shall get underway and shall move to its new designated position within 2 hours after notification.

(6) The Captain of the Port may prescribe specific conditions for vessels anchoring within the anchorages described in this section, including, but not limited to, the number and location of anchors, scope of chain, readiness of engineering plant and equipment, usage of tugs, and requirements for maintaining communication guards on selected radio frequencies.

(7) No vessel at anchor or at a mooring within an anchorage may transfer oil to or from another vessel unless the vessel has given the Captain of the Port the four hours advance notice required by § 156.118 of this title.

(8) No vessel may anchor in a “dead ship” status (propulsion or control unavailable for normal operations) without prior approval of the Captain of the Port.

(d) Regulations for vessels handling or carrying dangerous cargoes or Class 1 (explosive) materials. (1) This paragraph applies to every vessel, except a U.S. naval vessel, handling or carrying dangerous cargoes or Class 1 (explosive) materials.

(2) The Captain of the Port may require every person having business aboard a vessel handling or carrying dangerous cargoes or Class 1 (explosive) materials while in an anchorage, other than a member of the crew, to hold either a pass issued by the Captain of the Port or another form of identification prescribed by the Captain of the Port.

(3) Each person having business aboard a vessel handling or carrying dangerous cargoes or Class 1 (explosive) materials while in an anchorage, other than a member of the crew, shall present the pass or other form of identification prescribed by paragraph (d)(2) of this section to any Coast Guard Boarding Officer who requests it.

(4) The Captain of the Port may revoke at any time a pass issued under the authority of paragraph (d)(2) of this section.

(5) Each non-self-propelled vessel handling or carrying dangerous cargoes or Class 1 (explosive) materials must have a tug in attendance at all times while at anchor.

(6) Each vessel handling or carrying dangerous cargoes or Class 1 (explosive) materials while at anchor must display by day a bravo flag in a prominent location and by night a fixed red light.

(e) Regulations for Specific Anchorages—(1) Anchorage 1. Except when given permission by the Captain of the Port, a vessel may not anchor in this anchorage for more than 12 hours.

(2) Anchorage 3. Except when given permission by the Captain of the Port, a vessel may not anchor in this anchorage for more than 24 hours.

(3) Anchorage 7. Dead Ship Anchorage. The primary use of this anchorage is to lay up dead ships. Such use has priority over other uses. A written permit from the Captain of the Port must be obtained prior to the use of this anchorage for more than 72 hours.

Dated: December 18, 2003.
Sally Brice-O'Hara,
Rear Admiral, U.S. Coast Guard, Commander, Fifth Coast Guard District.

[FR Doc. 04-749 Filed 1-13-04; 8:45 am]

BILLING CODE 4910-15-P